DEPARTMENT OF HEALTH AND HUMAN SERVICES

Administration for Children and Families

Submission for OMB Review; Comment Request

Title: Evaluation of the Head Start Safe Families Safe Homes Training Curriculum.

OMB No.: New Collection.

Description: The purpose of this collection is to examine the implementation of the Head Start Safe Families Safe Homes (SFSH) domestic violence training curriculum. The Office of Head Start, within the Administration for Children and Families (ACF) of the Department of Health and Human Services (HHS), is partnering with the Division of Family Violence Prevention of the Family and Youth Services Bureau of the Administration on Children, Youth and Families (ACYF), also located within ACF, in an effort to expand the knowledge base of Head Start staff and build stronger partnerships with domestic violence service providers in local communities. Teams of trainers in each of five states are leading training sessions for 50 participants. The follow-up evaluation will examine implementation of the training curriculum in each of the states. All participants in the local trainings will be asked to complete a brief survey, which will be conducted online. Two members of each of the state leadership teams will be asked to complete a semi-structured phone interview.

Respondents: Head Start staff, state agency staff (e.g., Head Start Collaboration Directors, Domestic Violence Coalition Directors).

Annual Burden Estimates
Instrument | Annual number of respondents | Number of responses per respondent | Average burden hours per response | Total annual burden hours
Head Start Safe Families—Safe Home Training Curriculum Survey | 250 | 1 | .25 | 63
Head Start Safe Families—Safe Home Training Curriculum Semi-structured Interview | 10 | 1 | .5 | 5

Estimated Total Annual Burden Hours: 68.

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project. Fax: 202-395-6974. Attn: Desk Officer for the Administration for Children and Families.

Dated: June 7, 2011.
Steven M. Hanmer,
OPRE Reports Clearance Officer.

[FR Doc. 2011-14626 Filed 6-14-11; 8:45 am]

BILLING CODE 4184-01-M